DEPARTMENT OF COMMERCE

National Oceanic and Atmospheric Administration

RIN 0648-XH013

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Joint Groundfish Committee, Advisory Panel and Plan Development Team to consider actions affecting New England fisheries in the exclusive economic zone (EEZ). Recommendations from this group will be brought to the full Council for formal consideration and action, if appropriate.

DATES: This meeting will be held on Monday, May 20, 2019 at 1:30 p.m. and Tuesday, May 21, 2019 at 9 a.m.

ADDRESSES: The meeting will be held at the DoubleTree by Hilton, 363 Maine Mall Road, South Portland, ME 04106; phone: (207) 775-6161.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Joint Groundfish Committee, Advisory Panel and Plan Development Team on Day 1 (May 20) will review Amendment 23/Groundfish Monitoring particularly review and consider the results of the SSC Sub-Panel review of the PDT analyses of Groundfish Monitoring. Additionally, they will receive a report and discuss The Nature Conservancy's cost evaluation for electronic monitoring prepared by CapLog Group. On Day 2 (May 21) they will continue to develop revisions to the draft alternatives as directed by the Council in April, especially the dockside monitoring alternative, and review and consider progress on PDT analysis tasked by the Committee in April. Other business will be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. This meeting will be recorded. Consistent with 16 U.S.C. 1852, a copy of the recording is available upon request.

Authority: 16 U.S.C. 1801 et seq.

Dated: April 30, 2019.
Rey Israel Marquez,
Acting Deputy Director, Office of Sustainable Fisheries, National Marine Fisheries Service.

[FR Doc. 2019-09075 Filed 5-2-19; 8:45 am]

BILLING CODE 3510-22-P